DEPARTMENT OF COMMERCE

International Trade Administration

[A-588-804]

Antifriction Bearings (Other Than Tapered Roller Bearings) and Parts Thereof from Japan; Amended Final Results of Antidumping Duty Administrative Review Pursuant to Final Court Decision

AGENCY: Import Administration, International Trade Administration, Department of Commerce.

SUMMARY: On November 15, 2001, in response to its action in NSK Ltd. and NSK Corporation, Koyo Seiko Co., Ltd. and Koyo Corporation of U.S.A, NTN Bearing Corporation of America, NTN Corporation, American NTN Bearing Manufacturing Corporation, NTN Driveshaft, Inc. and NTN-Bower Corporation, and Nippon Pillow Block Sales Co., Ltd. and FYH Bearing Units USA Inc. v. United States and The Torrington Company (NSK Ltd. v. United States), Consol. Court No. 97-02-00216, Slip. Op. 01-69 (CIT June 6, 2001), the Court of International Trade (CIT) affirmed the Department of Commerce's (the Department's) remand determination affecting final assessment rates for the administrative review of the antidumping duty orders on antifriction bearings (other than tapered roller bearings) and parts thereof from Japan for the period of review May 1, 1994, through April 30, 1995. The merchandise covered by these reviews is ball bearings and parts thereof (BBs), cylindrical roller bearings and parts thereof (CRBs), and spherical plain bearings and parts thereof (SPBs). Because the appeals have been dismissed and there is now a final and conclusive court decision in this action, we are amending our final results of review and we will instruct U.S. Customs and Border Protection to liquidate entries subject to these reviews.

EFFECTIVE DATE: June 14, 2005.

FOR FURTHER INFORMATION CONTACT: John Holman or Richard Rimlinger, AD/CVD Operations, Office 5, Import Administration, U.S. Department of Commerce, 14th Street and Constitution Avenue, NW., Washington, DC 20230; telephone: (202) 482-3683 or (202) 482-4477, respectively.

SUPPLEMENTARY INFORMATION:

Background

On January 15, 1997, the Department published Antifriction Bearings (Other Than Tapered Roller Bearings) and Parts Thereof from France, Germany, Italy, Japan, Singapore, Sweden, and the United Kingdom: Final Results of Antidumping Duty Administrative Reviews, 62 FR 2081 (January 15, 1997), as amended by Antifriction Bearings (Other Than Tapered Roller Bearings) and Parts Thereof from Japan and the United Kingdom: Amended Final Results of Antidumping Duty Administrative Reviews, 62 FR 45795 (August 29, 1997) (collectively AFBs 6), which covered the period of review (POR) May 1, 1994, through April 30, 1995. The classes or kinds of merchandise covered by these reviews are BBs, CRBs, and SPBs.

NSK Ltd. and NSK Corporation (collectively NSK), Koyo Seiko Co., Ltd., and Koyo Corporation of U.S.A (collectively Koyo), NTN Bearing Corporation of America, NTN Corporation, American NTN Bearing Manufacturing Corporation, NTN Driveshaft, Inc., and NTN-Bower Corporation (collectively NTN), Nippon Pillow Block Sales Co., Ltd., FYH Bearing Units USA Inc. (collectively NPB), and The Torrington Company (collectively Torrington) appealed the Department's decisions in AFBs 6. On June 6, 2001, the CIT issued its ruling in NSK Ltd. v. United States, Consol. Court No. 97-02-00216, Slip Op. 01-69 (CIT June 6, 2001), remanding to the Department the final results in AFBs 6 as follows: (1) To exclude any transactions that were not supported by consideration from NSK's U.S. sales database; (2) to include the imputed inventory carrying costs in the calculation of the constructed export-price offset for NSK when matching constructed export-price sales to constructed value; (3) to reconsider NSK's supplier relationship; (4) to reconsider the Department's determination that a certain model of Koyo's was outside the ordinary course of trade; (5) to reconsider its determination that a certain home-market ball bearing of Koyo's could be compared to U.S. sales because it is a foreign like product; (6) to recalculate the dumping margins accordingly. This remand affected NSK and Koyo directly with respect to the antidumping duty orders on BBs and CRBs from Japan.

On September 4, 2001, the Department filed its final results of redetermination with the CIT. See Final Results of Redetermination Pursuant to Court Remand in Administrative Review of the Antidumping Orders on Antifriction Bearings (other than Tapered Roller Bearings) and Parts Thereof from Japan (September 4, 2001) (Remand Results). In its redetermination, the Department excluded any transactions that were not supported by consideration from NSK's U.S. sales databases and adjusted the dumping margins accordingly. The Department also calculated the inventory carrying costs for constructed value in the same manner as indirect selling expenses for constructed value, and it included the inventory carrying costs in the calculation of the constructed export-price offset. As a result of the Department's redetermination, NSK's weighted-average margins for the POR changed from 12.61 percent to 12.57 percent with respect to BBs and changed from 21.61 percent to 21.51 percent with respect to CRBs. The Department's redetermination did not result in any changes for Koyo's weighted-average margins or duty-assessment rates. On November 15, 2001, the CIT affirmed the Department's Remand Results in their entirety. See NSK Ltd. v. United States, Consol. Court No. 97-02-00216, Slip. Op. 01-133 (CIT November 15, 2001).

NSK, NTN, and Torrington appealed the CIT's remand affirmation but later filed motions with the United States Court of Appeals for the Federal Circuit (CAFC) to sever and dismiss their appeals voluntarily. On February 23, 2004, in response to motions of voluntary dismissal by NSK and Torrington in NSK Ltd. v. United States, appeal numbers 02-1172 and 02-1173, the CAFC granted the unopposed motions and dismissed the appeals. On July 19, 2004, in response to a motion of voluntary dismissal by NTN in NSK Ltd. v. United States, appeal number 02-1171, the CAFC granted the unopposed motion and dismissed the appeal.

Because all appeals have been dismissed, there is now a final and conclusive court decision with respect to the companies affected by this litigation (Koyo, NSK, NTN, and NPB), pursuant to section 516A(e) of the Tariff Act of 1930, as amended. We are amending our final results of review for these companies and we will instruct U.S. Customs and Border Protection (CBP) to liquidate the relevant entries subject to these reviews in accordance with our remand results.

Assessment of Duties

We are now amending the final results of the 1994-1995 administrative reviews of the antidumping duty orders on BBs and CRBs from Japan to reflect revised weighted-average margins for NSK. We determine that revised weighted-average margins of 12.57 percent exist for NSK on BBs and 21.51 percent for NSK on CRBs from Japan for the period May 1, 1994, through April 30, 1995. There were no other changes to the final margins we calculated for other companies as a result of litigation.

Accordingly, the Department will determine and CBP will assess appropriate antidumping duties on entries of the subject merchandise produced or exported by the reviewed companies. Individual differences between U.S. price and normal value may vary from the above percentages. The Department will issue assessment instructions to CBP within 15 days of publication of this notice.

We are issuing and publishing this notice in accordance with sections 751(a)(1) and 777(i)(1) of the Tariff Act of 1930, as amended.

Dated: June 8, 2005.
Joseph A. Spetrini,
Acting Assistant Secretary for Import Administration.

[FR Doc. E5-3066 Filed 6-13-E5; 8:45 am]

BILLING CODE 3510-DS-S